DEPARTMENT OF COMMERCE

Bureau of Export Administration

15 CFR Part 744

[Docket No. 981019261-0207-03]

RIN 0694-AB73

Export Administration Regulations Entity List: Revisions to the Entity List

AGENCY: Bureau of Export Administration, Commerce.

ACTION: Final rule.

SUMMARY: On November 19, 1998, the Bureau of Export Administration (BXA) published a rule in the Federal Register (63 FR 64322) that added certain Indian and Pakistani entities to the Entity List in the Export Administration Regulations (EAR). Further revisions were made to the list of Indian entities on March 17, 2000 (65 FR 14444). This rule removes two Indian entities: the Nuclear Science Centre located in New Delhi and the Uranium Recovery Plant located in Cochin; and adds one Indian entity: Indian Space Research Organization (ISRO), Telemetry, Tracking and Command Network (ISTRAC) to the Entity List.

DATES: This rule is effective July 26, 2000.

FOR FURTHER INFORMATION CONTACT: Eileen M. Albanese, Director, Office of Exporter Services, Bureau of Export Administration, Telephone: (202) 482-0436.

SUPPLEMENTARY INFORMATION:

Background

In accordance with section 102(b) of the Arms Export Control Act, President Clinton reported to the Congress on May 13, 1998, with regard to India and May 30, 1998, with regard to Pakistan his determinations that those non-nuclear weapon states had each detonated a nuclear explosive device. The President directed in the determination reported to the Congress that the relevant agencies and instrumentalities of the United States take the necessary actions to implement the sanctions described in section 102(b)(2) of that Act. Consistent with the President's directive, the Bureau of Export Administration (BXA) implemented certain sanctions, as well as certain supplementary measures to enhance the sanctions on November 19, 1998 (63 FR 64322).

Based on a consensus decision by the Administration to more tightly focus the sanctions on those Indian entities which make direct and material contributions to weapons of mass destruction and missile programs and items that can contribute to such programs, BXA issued revisions to the list of Indian entities on March 17, 2000 (65 FR 14444). This rule makes additional revisions to the list by removing the Nuclear Science Centre located in New Delhi from the Entity List table in Supplement No. 4 to part 744. In addition, this rule removes the Uranium Recovery Plant located in Cochin from the subordinates listed under the Indian organization Department of Atomic Energy (DAE) in Appendix A to the Entity List, “Listed Subordinates of Listed Indian Organizations.” Lastly, this rule adds the Indian Space Research Organization (ISRO), Telemetry, Tracking and Command Network (ISTRAC) to subordinates listed under the Indian organization Department of Space (DOS) in Appendix A to the Entity List.

The license review policy for ISTRAC will be one of denial for items controlled for NP or MT reasons, except items intended for the preservation of safety of civil aircraft, which will be reviewed on a case-by-case basis; and computers, which will be reviewed with a presumption of denial. All other items subject to the EAR to ISTRAC will be reviewed with a presumption of denial, with the exception of items classified as EAR99, which will be reviewed with a presumption of approval.

The removal of entities from the Entity List does not relieve exporters or reexporters of their obligations under General Prohibition 5 in § 736.2(b)(5) of the EAR which provides that, “you may not, without a license, knowingly export or reexport any item subject to the EAR to an end-user or end-use that is prohibited by part 744 of the EAR.” BXA strongly urges the use of Supplement No. 3 to part 732 of the EAR, “BXA's ‘Know Your Customer’ Guidance and Red Flags” when exporting or reexporting to India and Pakistan.

Although the Export Administration Act (EAA) expired on August 20, 1994, the President invoked the International Emergency Economic Powers Act and continued in effect the EAR, and, to the extent permitted by law, the provisions of the EAA in Executive Order 12924 of August 19, 1994, as extended by the President's notices of August 15, 1995 (60 FR 42767), August 14, 1996 (61 FR 42527), August 13, 1997 (62 FR 43629), August 13, 1998 (63 FR 44121), and August 10, 1999 (64 FR 44101, August 13, 1999).

Rulemaking Requirements

1. This final rule has been determined to be not significant for purposes of E.O. 12866.

2. This rule contains and involves collections of information subject to the Paperwork Reduction Act of 1980 (44 U.S.C. 3501 et seq.). These collections have been approved by the Office of Management and Budget under control number 0694-0088, “Multi-Purpose Application,” which carries a burden hour estimate of 40 minutes to prepare and submit electronically and 45 minutes to submit manually on form BXA-748P; and 0694-0111, “India Pakistan Sanctions,” which carries a burden hour estimate of 40 minutes to prepare and submit electronically and 45 minutes to submit manually on form BXA-748P. Notwithstanding any other provision of law, no person is required to respond nor shall any person be subject to a penalty for failure to comply with, a collection of information subject to the requirements of the Paperwork Reduction Act, unless that collection of information displays a currently valid OMB Control Number.

3. This rule does not contain policies with Federalism implications sufficient to warrant preparation of a Federalism assessment under Executive Order 13132.

4. The provisions of the Administrative Procedure Act (5 U.S.C. 553) requiring notice of proposed rulemaking, the opportunity for public participation, and a delay in effective date, are inapplicable because this regulation involves a military and foreign affairs function of the United States (see 5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable.

Therefore, this regulation is issued in final form. Although there is no formal comment period, public comments on this regulation are welcome on a continuing basis. Comments should be submitted to Sharron Cook, Regulatory Policy Division, Bureau of Export Administration, Department of Commerce, PO Box 273, Washington, DC 20044.

List of Subjects in 15 CFR Part 744

Exports, Foreign trade, Reporting and recordkeeping requirements.

Accordingly, part 744 of the Export Administration Regulations (15 CFR parts 730 through 799) is amended as follows:

1. The authority citation for 15 CFR part 744 continues to read as follows:

Authority: 50 U.S.C. app. 2401 et seq.; 50 U.S.C. 1701 et seq.; 22 U.S.C. 3201 et seq.; 42 U.S.C. 2139a; E.O. 12058, 43 FR 20947, 3 CFR, 1978 Comp., p. 179; E.O. 12851, 58 FR 33181, 3 CFR, 1993 Comp., p. 608; E.O. 12924, 59 FR 43437, 3 CFR, 1994 Comp., p. 917; E.O. 12938, 59 FR 59099, 3 CFR, 1994 Comp., p. 950; E.O. 13026, 61 FR 58767, 3 CFR, 1996 Comp., p. 228; Notice of November 12, 1998, 63 FR 63589, 3 CFR, 1998 Comp., p. 305; Notice of August 10, 1999, 64 FR 44101, 3 CFR, 1999 Comp., p.302.

PART 744—[AMENDED]

2. Supplement No. 4 to part 744 is amended by:

a. Removing the entity “Nuclear Science Centre (NSC), New Delhi” from “India” in the table;

b. Removing “Uranium Recovery Plant, Cochin” from the subordinates listed under the Indian organization “Department of Atomic Energy (DAE)” in Appendix A, Listed Subordinates of Listed Indian Organizations; and

c. Adding in alphabetical order the entity “Indian Space Research Organization (ISRO), Telemetry, Tracking and Command Network (ISTRAC)” to the subordinates listed under the Indian organization “Department of Space (DOS)” in Appendix A to Supplement No. 4 to part 744 A, Listed Subordinates of Listed Indian Organizations.

Dated: July 18, 2000.
R. Roger Majak,
Assistant Secretary for Export Administration.

[FR Doc. 00-18820 Filed 7-25-00; 8:45 am]

BILLING CODE 3510-33-P